ENVIRONMENTAL PROTECTION AGENCY

40 CFR Parts 85 and 86

DEPARTMENT OF TRANSPORTATION

National Highway Traffic Safety Administration

49 CFR Parts 523, 531, 533, 536, and 537

[NHTSA-2018-0067; EPA-HQ-OAR-2018-0283; FRL-9984-62-OAR; NHTSA-2017-0069]

RIN 2127-AL76; 2060-AU09

The Safer Affordable Fuel-Efficient (SAFE) Vehicles Rule for Model Years 2021-2026 Passenger Cars and Light Trucks

AGENCY: Environmental Protection Agency and National Highway Traffic Safety Administration.

ACTION: Proposed rule; correction.

SUMMARY: This document corrects information in the proposed rule published in the August 24, 2018 issue of the Federal Register entitled The Safer Affordable Fuel-Efficient (SAFE) Vehicles Rule for Model Years 2021-2026 Passenger Cars and Light Trucks. Specifically, a table in the Paperwork Reduction Act section is corrected; two minor changes are made to one amendatory instruction in NHTSA's regulatory text, and the coefficients specifying the proposed carbon dioxide standards in EPA's regulatory text have been corrected to reflect EPA's proposal to exclude credits for direct A/C emissions for purposes of compliance with carbon dioxide standards after model year 2020, as explained in Section III of the proposed rule. This document contains only clerical corrections and makes no updates to either the proposal or to the analysis underlying the proposal. For the reader's information, an updated Preliminary Regulatory Impact Assessment (PRIA) will also be made available concurrent with this notice; that document will include descriptions starting on the second page detailing the corrections to various tables and figures therein.

DATES: Comments for the proposed rule must be received on or before October 26, 2018.

FOR FURTHER INFORMATION CONTACT: EPA: Christopher Lieske, Office of Transportation and Air Quality, Assessment and Standards Division, Environmental Protection Agency, 2000 Traverwood Drive, Ann Arbor, MI 48105; telephone number: (734) 214-4584; fax number: (734) 214-4816; email address: lieske.christopher@epa.gov, or contact the Assessment and Standards Division, email address: otaqpublicweb@epa.gov. NHTSA: James Tamm, Office of Rulemaking, Fuel Economy Division, National Highway Traffic Safety Administration, 1200 New Jersey Avenue SE, Washington, DC 20590; telephone number: (202) 493-0515.

SUPPLEMENTARY INFORMATION:

In the proposed rule beginning at 83 FR 42986, in the issue of August 24, 2018, make the following corrections:

On page 43480, replace the existing Table XII-2 with the following table:

Table XII-2—Estimated Burden for Reporting Requirements
| Manufacturers: Hours | Manufacturers: Cost | Government: Hours | Government: Cost
Prior Collection | 3,189.00 | $24,573.50 | 975.00 | $31,529.00
Current Collection | 3,774.5 | 187,530.82 | 3,038.00 | 141,246.78
Difference | 585.50 | 162,957.32 | 2,063.00 | 109,717.78

On page 43489, third column, remove the first instance of instruction 16 and in the second, in paragraph (a)(4)(ii) correct “8,877” to read “8,887.”

On page 43494, replace existing Table 1 to Paragraph (c)(2)(i)(A) with the following table:

Model year | CO2 target value (grams/mile)
2012 | 244.0
2013 | 237.0
2014 | 228.0
2015 | 217.0
2016 | 206.0
2017 | 195.0
2018 | 185.0
2019 | 175.0
2020 | 166.0
2021 and later | 182.0

On Page 43495 replace Table 1 to Paragraph (c)(2)(i)(B) with the following table:

Model year | CO2 target value (grams/mile)
2012 | 315.0
2013 | 307.0
2014 | 299.0
2015 | 288.0
2016 | 277.0
2017 | 263.0
2018 | 250.0
2019 | 238.0
2020 | 226.0
2021 and later | 244.0

On Page 43496 replace the table currently titled “Table 1 to Table 1 to Paragraph (c)(2)(i)(C)” with the following table header and table:

Table 1 to Paragraph (c)(2)(i)(C)
Model year | a | b
2012 | 4.72 | 50.5
2013 | 4.72 | 43.3
2014 | 4.72 | 34.8
2015 | 4.72 | 23.4
2016 | 4.72 | 12.7
2017 | 4.53 | 8.9
2018 | 4.35 | 6.5
2019 | 4.17 | 4.2
2020 | 4.01 | 1.9
2021 and later | 4.09 | 14.6

On Page 43497 replace the table currently titled “Table 1 to Table 1 to Paragraph (c)(3)(i)(A)” with the following table header and table:

Table 1 to Paragraph (c)(3)(i)(A)
Model year | CO2 target value (grams/mile)
2012 | 294.0
2013 | 284.0
2014 | 275.0
2015 | 261.0
2016 | 247.0
2017 | 238.0
2018 | 227.0
2019 | 220.0
2020 | 212.0
2021 and later | 227.0

On Page 43498 replace the table currently titled “Table 1 to Table 1 to Paragraph (c)(3)(i)(B)” with the following table header and table:

Table 1 to Paragraph (c)(3)(i)(B)
Model year | Maximum footprint | a | b
2012 | 66.0 | 4.04 | 128.6
2013 | 66.0 | 4.04 | 118.7
2014 | 66.0 | 4.04 | 109.4
2015 | 66.0 | 4.04 | 95.1
2016 | 66.0 | 4.04 | 81.1
2017 | 50.7 | 4.87 | 38.3
2018 | 60.2 | 4.76 | 31.6
2019 | 66.4 | 4.68 | 27.7
2020 | 68.3 | 4.57 | 24.6
2021 and later | 68.3 | 4.57 | 39.9

On Page 43499 replace the table currently titled “Table 1 to Table 1 to Paragraph (c)(3)(i)(D)” with the following table header and table:

Table 1 to Paragraph (c)(3)(i)(D)
Model year | Minimum footprint | CO2 target value (grams/mile)
2012 | 66.0 | 395.0
2013 | 66.0 | 385.0
2014 | 66.0 | 376.0
2015 | 66.0 | 362.0
2016 | 66.0 | 348.0
2017 | 66.0 | 347.0
2018 | 66.0 | 342.0
2019 | 66.4 | 339.0
2020 | 68.3 | 337.0
2021 and later | 68.3 | 352.0

Issued on October 16, 2018 in Washington, DC, under authority delegated in 49 CFR 1.95 and 501.5.
Heidi R. King,
Deputy Administrator, National Highway Traffic Safety Administration.
Dated: October 16, 2018.
William L. Wehrum,
Assistant Administrator for Air and Radiation, Environmental Protection Agency.

[FR Doc. 2018-22976 Filed 10-19-18; 8:45 am]

BILLING CODE 4910-59-P